DEPARTMENT OF LABOR

Employment and Training Administration

[TA-W-62,895]

Siny Corp, d/b/a Monterey Mills, Janesville, WI; Notice of Negative Determination Regarding Application for Reconsideration

By application dated September 3, 2008, a petitioner requested administrative reconsideration of the Department's negative determination regarding eligibility for workers and former workers of the subject firm to apply for Trade Adjustment Assistance (TAA) and Alternative Trade Adjustment Assistance (ATAA). The denial notice was signed on July 28, 2008 and published in the Federal Register on August 12, 2008 (73 FR 46924).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The TAA petition, which was filed on behalf of workers at Siny Corporation, d/b/a Monterey Mills, Janesville, Wisconsin engaged in the production of acrylic knit pile fabric, was denied based on the findings that imports of acrylic knit pile fabric did not contribute importantly to worker separations at the subject firm and no shift in production to a foreign source occurred.

In the request for reconsideration, the petitioner stated that workers of the subject firm were previously certified eligible for Trade Adjustment Assistance. The petitioner further stated that in order to reveal the import impact, the Department should consider the time period prior to 2006. The petitioner seems to allege that because the subject firm was previously certified eligible for TAA, the workers of the subject firm should be granted another TAA certification.

When assessing eligibility for TAA, the Department exclusively considers import impact during the relevant time period (from one year prior to the date of the petition). Therefore, events occurring before 2006 are outside of the relevant period and are not relevant in this investigation.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed at Washington, DC, this 15th day of September, 2008.
Elliott S. Kushner,
Certifying Officer, Division of Trade Adjustment Assistance.

[FR Doc. E8-22123 Filed 9-22-08; 8:45 am]

BILLING CODE 4510-FN-P